DEPARTMENT OF TRANSPORTATION

Pipeline and Hazardous Materials Safety Administration

[Docket No. PHMSA-2006-25803]

Pipeline Safety: Request for Special Permit; Kinder Morgan Louisiana Pipeline, LLC

AGENCY: Pipeline and Hazardous Materials Safety Administration (PHMSA), DOT.

ACTION: Notice.

SUMMARY: PHMSA is publishing this notice to solicit public comment on a request from Kinder Morgan Louisiana Pipeline, LLC, (KMLP) to modify a previously issued special permit. KMLP requests a modification to the pipeline gas stream quality requirements that limit the amount of hydrogen sulfide (H2S) in the gas. At the conclusion of the 30-day comment period, PHMSA will review the comments received from this notice as part of its evaluation to grant or deny the special permit modification request.

DATES: Submit any comments regarding this special permit request by April 27, 2020.

ADDRESSES: Comments should reference the docket number for this special permit request and may be submitted in the following ways:

• E-Gov Website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two (2) copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Regulations (CFR) § 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and these items will not be placed in the public docket of this notice. Submissions containing CBI should be sent to Kay McIver, DOT, PHMSA-PHP-80, 1200 New Jersey Avenue SE, Washington, DC 20590-0001. Any commentary PHMSA receives that is not specifically designated as CBI will be placed in the public docket for this matter.

FOR FURTHER INFORMATION CONTACT: General: Ms. Kay McIver by telephone at 202-366-0113, or by email at kay.mciver@dot.gov.

Technical: Mr. Steve Nanney by telephone at 713-272-2855, or by email at steve.nanney@dot.gov.

SUPPLEMENTARY INFORMATION: PHMSA received a special permit modification request from KMLP, owned by Kinder Morgan, Inc., to modify special permit Condition 28(a) of the existing special permit, PHMSA-2006-25803. KMLP requests a modification of Condition 28(a) to allow an increase in the amount of H2S in the pipeline gas stream from 0.25 grains to 0.5 grains per 100 standard cubic feet. The requested amount of H2S in the KLMP pipeline gas stream is less than what is required in 49 CFR 192.620(d)(5)(v)(C), “Controlling Internal Corrosion.”

The special permit was issued to KMLP on April 13, 2007, to waive compliance with 49 CFR 192.111 and 192.201(a)(2)(i) for Class 1 locations along the Leg 1 segment of the KMLP. The KMLP Leg 1 segment is a 137-mile, 42-inch diameter pipeline that is located in Calcasieu, Cameron, Jefferson Davis, Acadia, and Evangeline Parishes in Louisiana. The KMLP Leg 1 segment has a maximum allowable operating pressure of 1,440 pounds per square inch gauge in the special permit segment.

The special permit modification request and existing special permit with conditions for the KMLP are available for review and public comment in the Docket No. PHMSA-2006-25803. PHMSA invites interested persons to review and submit comments in the docket regarding the special permit modification request. Please include any comments on potential safety and environmental impacts that may result if the special permit modification is granted. Comments may include relevant data.

Before issuing a decision on the special permit modification request, PHMSA will evaluate all comments received on or before the comment closing date. Comments received after the closing date will be evaluated, if it is possible to do so without incurring additional expense or delay. PHMSA will consider each relevant comment it receives in making its decision to grant or deny this special permit modification request.

Issued in Washington, DC, under authority delegated in 49 CFR 1.97.
Alan K. Mayberry,
Associate Administrator for Pipeline Safety.

[FR Doc. 2020-06379 Filed 3-26-20; 8:45 am]

BILLING CODE 4910-60-P